FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans. No. | Acquiring | Acquired | Entities
TRANSACTIONS GRANTED EARLY TERMINATION—01/31/2006
20060466 | Liberty Media Corporation | Provide Commerce, Inc | Provide Commerce, Inc.
20060492 | Macquarie Bank Limited | The Baldwin County Bridge Company, LLC | The Baldwin County Bridge Company, LLC.
20060497 | J.H. Whitney VI, L.P | AECOM Technology Corporation | AECON Technology Corporation.
20060501 | Macquarie Bank Limited | Smarte Carte Corporation | Smarte Carte Corporation.
20060513 | AmerisourceBergen Corporation | American Capital Strategies, Ltd | Network for Medical Communications & Research, LLC.
20060519 | Google, Inc | dMarc Broadcasting, Inc | dMarc Broadcasting, Inc.
20060523 | Long Point Capital Fund II, L.P | Steve W. Fowler | Commerical Grading, Inc.
20060524 | Jabil Circuit, Inc | Celetronix International, Ltd | Celetronix International, Ltd.
20060526 | Apax Europe VI-A, L.P | Tommy Hilfiger Corporation | Tommy Hilfiger Corporation.
20060527 | JAKKS Pacific, Inc | Geoffrey R. Greenberg | Creative Designs International, Ltd.
20060533 | LS Power Equity Partners, L.P | Duke Energy Corporation | Casco Bay Energy Company, LLC, Duke Bridgeport Energy, LLC, Duke Energy Arlington Valley, LLC, Duke Energy Mohave, LLC, Duke Energy Morro Bay, LLC, Duke Energy Moss Landing, LLC, Duke Energy Mulberry, LLC, Duke Energy Oakland, LLC, Duke Energy South Bay, LLC.
TRANSACTIONS GRANTED EARLY TERMINATION—02/01/2006
20051001 | Comcast Corporation | Adelphia Communications Corporation | Adelphia Communications Corporation.
20051002 | Comcast Corporation | Time Warner, Inc | Cable Holdco Exchange III, LLC, Cable Holdco Exchange II, LLC, Cable Holdco Exchange I, LLC, Cable Holdco Exchange IV, LLC, Cable Holdco Exchange VI, LLC, Cable Holdco Exchange V, LLC, Cable Holdco III, LLC, Cable Holdco II, Inc., Cable Holdco Inc.
20051003 | Time Warner, Inc | Comcast Corporation | CAC Exchange I, LLC, CAC Exchange II, LLC, C AP Exchange I, LLC, C-Native Exchange III Trust, C-Native Exchange II Trust, C-Native Exchange I, LLC.
20051004 | Time Warner, Inc | Adelphia Communications Corporation, a debtor-in-possession | Adelphia Communications Corporation, a debtor-in-possession.
20060372 | Hasbro, Inc | Marvel Entertainment, Inc | Marvel Characters, Inc.
20060478 | Cintas Corporation | Van Dyne-Crotty, Inc | VDC Dyne-Crotty, Inc., VDC Rental LLC.
20060481 | Allied Capital Corporation | ChemPro, Inc | ChemPro, Inc.
20060493 | EQT IV No. 1 L.P | DaimlerChrysler AG | MTU Detroit Diesel UK Ltd., MTU Drive Shafts LLC, MTU Friedrichshafen GmbH, MTU South Africa (Pty.) Ltd.
20060496 | Quad-C Partners VI, L.P | CFC International, Inc | CFC International, Inc.
20060506 | WestView Capital Partners, L.P | Maurice J. Cunniffe | Radiac Abrasives, Inc.
20060509 | Bain Capital Integral Investors, LLC | Texas Instruments Incorporated | Texas Instruments (Changzhou) Co., Ltd., Texas Instruments (China) Company Limited, Texas Instruments de Mexico, S. de R.L. de C.V., Texas Instruments Electronicos do Brasil Ltda., Texas Instruments Holland B.V., Texas Instruments Hong Kong Limited, Texas Instruments Italia S.p.A., Texas Instruments Japan Limited, Texas Instruments Korea Limited, Texas Instruments Malaysia Sdn. Bhd., Texas Instruments Semiconductor Tech. (Shanghai) Co., Ltd.
20060534 | Paul Tudor Jones II | Pegasus Solutions, Inc. | Pegasus Solutions, Inc.
20060535 | GGC Investments II (BVI), L.P | Datastream Systems, Inc | Datastream Systems, Inc.
TRANSACTIONS GRANTED EARLY TERMINATION—02/02/2006
20060440 | Darling International Inc | National By-Products, LLC | National By-Products, LLC.
20060485 | Becton Dickinson and Company | GeneOhm Sciences, Inc | GeneOhm Sciences, Inc.
20060517 | Calix Networks, Inc | Optical Solutions, Inc | Optical Solutions, Inc.
20060528 | Allscripts Healthcare Solutions, Inc | A4 Health Systems, Inc | A4 Health Systems, Inc.
TRANSACTIONS GRANTED EARLY TERMINATION—02/03/2006
20060470 | SES Global S.A | New Skies Satellites Holdings Ltd | New Skies Satellites Holdings Ltd.
20060477 | Sprint Nextel Corporation | Nextel Partners, Inc | Nextel Partners, Inc.
TRANSACTIONS GRANTED EARLY TERMINATION—02/06/2006
20060104 | Blackboard Inc | WebCT, Inc | WebCT, Inc.
20060536 | Chesapeake Energy Corporation | Martex Drilling Company, L.L.P | Martex Drilling Company, L.L.P.
20060537 | Aban Lloyd Chiles Offshore, Ltd | Transocean Inc | Transocean Holdings Inc.
20060538 | Ronald E. Silva | Beverly Enterprises, Inc | Beverly Enterprises, Inc.
20060546 | Dubai Holding LLC | Doncasters Group Limited | Doncasters Group Limited.
20060549 | Trevor Lloyd | Richard L. Jackson | Surgical Information Systems, LLC.
20060558 | Deutsche Post AG | Seapac, Inc | Seapac, Inc.
20060559 | Nautic Partners V, L.P | Frederick J. Curtis, Jr | Curtis Industries Holdings, LLC, Curtis Industries, LLC.
20060571 | UniCredito Italiano SpA | Emad A. Zirkry | Vanderbilt Capital Advisors, LLC.
20060582 | Berkshire Hathaway Inc | Scottish Power plc | PacifiCorp.
20060585 | NetLogic Microsystems, Inc | Cypress Semiconductor Corporation | Lara Networks, Inc.
20060586 | Knight Capital Group, Inc | FX Investment Settlement | Hotspot FX, Inc.
TRANSACTIONS GRANTED EARLY TERMINATION—02/07/2006
20060543 | Arcelor S.A | Dofasco Inc | Dofasco Inc.
20060547 | Koninklijke Philips Electronic N.V | Lifeline Systems, Inc | Lifeline Systems, Inc.
20060572 | Community Health Systems, Inc | Victory Health Services | Victory Ambulatory Services, Victory Care Centers, Victory Memorial Hospital, Vista Health—Saint Theresa Medical Center.
20060574 | Nautic Partners V, L.P | H.I.G. Capital Partners III, L.P | WRI Acquisition, Inc.
20060577 | The Home Depot, Inc | Cox Lumber Co | Cox Lumber Co.
20060593 | 1947 Limited Partnership | Regis Corporation | Regis Corporation.
TRANSACTION GRANTED EARLY TERMINATION—02/08/2006
20060555 | Duquesne Light Holdings, Inc | Pepco Holdings, Inc | Atlantic City Electric Company.
TRANSACTION GRANTED EARLY TERMINATION—02/09/2006
20060483 | U.S. Bancorp | First Horizon National Corporation | First Horizon Merchant Services, Inc, Global Card Services, Inc.
20060507 | UnitedHealth Group Incorporated | Deere & Company | John Deere Health Care, Inc.
20060514 | Applera Corporation | Ambion, Inc | Ambion, Inc.
20060560 | Health Management Associates, Inc | Ascension Health | St. Joseph Hospital, Augusta, Georgia, Inc, St. Joseph M.O.B., L.P., St. Joseph Ventures, Inc.
20060562 | The Black & Decker Corporation | Vector Products, Inc | Vector Products, Inc.
20060576 | Community Health Systems, Inc | Via Christi Health System, Inc | Via Christi Oklahoma Regional Medical Center-Ponca City, Inc.
20060595 | Regis Corporation | Alberto-Culver Company | Sally Holdings, Inc.
TRANSACTION GRANTED EARLY TERMINATION—02/10/2006
20060510 | Mr. Ralph Esmerian | Fred Leighton and Glorya Leighton | Fred Leighton, LLC, Fred Leighton, Ltd.
20060594 | Genworth Financial, Inc | Randall Ray Baskin | American Continental Insurance Company, Continental Insurances Service, Inc., Continental Life Insurance Company of Brentwood, Tennessee.
20060597 | Bain Capital Integral Investors, LLC | Burlington Coat Factory Warehouse Corporation | Burlington Coat Factory Warehouse Corporation.
20060599 | Natural Gas Partners VIII, L.P | Duke Energy Corporation | Duke Energy Field Services, L.P.
20060600 | Natural Gas Partners VIII, L.P | ConocoPhillips | Duke Energy Field Services, LP.
20060609 | Central Garden & Pet Company | Charles B. Duff | Farnam Companies, Inc., Farnam Realty, Inc.
TRANSACTIONS GRANTED EARLY TERMINATION—02/14/2006
20060606 | Banco Santander Central Hispano, S.A | Wells Fargo & Company | Island Finance Puerto Rico, Inc., Island Finance Sales Finance Corporation, Island Insurance Corporation.
TRANSACTIONS GRANTED EARLY TERMINATION—02/15/2006
20060556 | Icahn Partners L.P | Time Warner, Inc. | Time Warner, Inc.
20060625 | Summit Ventures VI-A, L.P | Richard A. Chaifetz | ConfidentialSource, Inc., Comprehensive Behavioral Services, Inc., Comprehensive Psychological Centers, P.C., ComPsych Employee Assistance Programs, Inc., ComPsych International, Inc., ComPsych Japan, Inc., ComPsych Management Corporation, ComPsych Preferred Provider Administrators, Inc., ComPsych TPA, Inc., FinancialPoint Corporation, FMLA Source, Inc., LawPoint Corporation, NBM, Inc.
TRANSACTIONS GRANTED EARLY TERMINATION—02/16/2006
20060615 | Tracy W. Krohn | Kerr Mc-Gee Corporation | Kerr Mc-Gee Oil & Gas (Shelf) LLC.
TRANSACTIONS GRANTED EARLY TERMINATION—02/17/2006
20060565 | Dana Corporation | DESC S.A. de C.V | Autometales, S.A. de C.V., Cardanes, S.A. de C.V., Corporacion Inmobillaria de Mexico, S.A. de C.V., DirecSpicer, S.A. de C.V., Ejes Tractivos, S.A. de C.V., Engranes Conicos, S.A. de C.V., Forjas Spicer, S.A. de C.V., Spicer Servicios, S.A. de C.V.
20060618 | Sagittarius Brands, Inc | Kevin & Patricia Moriarty | Kerry Foods International, Inc.
20060620 | Charlesbank Equity Fund VI, Limited Partnership | Homes Acres Building Supply Co | Home Acres Building Supply Co.
20060626 | De Agostini S.p.A | GTECH Holdings Corporation | GTECH Holdings Corporation.
20060627 | F & H Acquisition Corp | Fox & Hound Restaurant Group | Fox & Hound Restaurant Group.
20060636 | Black Bear Offshore Master Fund, L.P | Telik, Inc | Telik, Inc.
20060648 | Welsh, Carson, Anderson & Stowe X, L.P | Verizon Communications, Inc | Caribe Information Investments Incorporated.
20060653 | Gary and Mary E. West | Intrado, Inc | Intrado, Inc.

FOR FURTHER INFORMATION CONTACT: Sandra M. Peay, Contact Representative or Renee Hallman, Contact Representative, Federal Trade Commission, Premerger Notification Office, Bureau of Competition, Room H-303, Washington, DC 20580. (202) 326-3100.

By Direction of the Commission.
Donald S. Clark,
Secretary.

[FR Doc. 06-2116 Filed 3-6-06; 8:45 am]

BILLING CODE 6750-01-M